ENVIRONMENTAL PROTECTION AGENCY

40 CFR Part 180

[EPA-HQ-OPP-2014-0008; FRL-9906-77]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before March 27, 2014.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Lois Rossi, Registration Division (RD) (7505P), email address: RDFRNotices@epa.gov; main telephone number: (703) 305-7090; Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), (21 U.S.C. 346a), requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 3E8211. (EPA-HQ-OPP-2013-0255). Interregional Research Project Number 4 (IR-4), 500 College Road East, Suite 201 W, Princeton, NJ 08540, requests to establish tolerances in 40 CFR part 180 for residues of the fungicide metrafenone, (3-bromo-6-methoxy-2-methylphenyl)(2,3,4-trimethoxy-6-methylphenyl)methanone, in or on apricot at 0.7 parts per million (ppm); cherry, subgroup 12-12A at 2.0 ppm; fruit, small, vine climbing, except fuzzy kiwifruit, subgroup 13-07F at 4.5 ppm; hop, dried cones at 70.0 ppm; peach, subgroup 12-12B at 0.7 ppm; and vegetable, cucurbit, group 9 at 0.5 ppm. The residues of parent metrafenone in/on cherry, hops, peach, cucumber, cantaloupe, and squash raw agricultural commodities (RAC) samples were quantitated using a liquid chromatography/mass spectrometer/mass spectrometer (LC/MS/MS) multi-residue QuEChERS method (BASF Study No. 398340). An independent laboratory validation demonstrated good performance of the QuEChERS method.

2. PP 3E8215. (EPA-HQ-OPP-2013-0797). Interregional Research Project Number 4 (IR-4), 500 College Road East, Suite 201 W, Princeton, NJ 08540, requests to establish tolerances in 40 CFR part 180 for residues of the fungicide boscalid, 3-pyridinecarboxamide,2-chloro-N-(4′-chloro[1,1′-biphenyl]-2-yl), in or on herb, subgroup 19A at 190 ppm; and dill, seed at 300 ppm. In plants, the parent residue is extracted using an aqueous organic solvent mixture followed by liquid/liquid partitioning and a column clean up. Quantitation is by GC using MS (GC/MS). In livestock, the residues are extracted with methanol. The extract is treated with enzymes in order to release the conjugated glucuronic acid metabolite. The residues are then isolated by liquid/liquid partition followed by column chromatography (CC). The hydroxylated metabolite is acetylated followed by a column clean-up. The parent and acetylated metabolite are quantitated by GC with electron capture detection (GC/ECD).

3. PP 3E8216. (EPA-HQ-OPP-2013-0798). Interregional Research Project Number 4 (IR-4), 500 College Road East, Suite 201 W, Princeton, NJ 08540, requests to establish tolerances in 40 CFR part 180 for residues of the fungicide pyraclostrobin, carbamic acid, [2-[[[1-(4-chlorophenyl)-1H-pyrazol-3-yl]oxy]methyl]phenyl]methoxy-, methyl ester and its desmethoxy metabolite (methyl-N-[[[1-(4-chlorophenyl)-1H-pyrazol-3-yl]oxy]methyl] phenylcarbamate) (BF 500-3); expressed as parent compound, in or on herb, subgroup 19A at 85 ppm; and dill, seed at 100 ppm. In plants, the method of analysis is aqueous organic solvent extraction, column clean up and quantitation by LC/MS/MS. In animals, the method of analysis involves base hydrolysis, organic extraction, column clean up and quantitation by LC/MS/MS or derivatization (methylation) followed by quantitation by GC/MS.

4. PP 3E8223. (EPA-HQ-OPP-2014-0110). Interregional Research Project Number 4 (IR-4), 500 College Road East, Suite 201 W, Princeton, NJ 08540, requests to establish tolerances in 40 CFR part 180 for residues of the molluscicide metaldehyde, 2,4,6,8-tetramethyl-1,3,5,7-tetroxocane, in or on clover, forage at 0.5 ppm; clover, hay at 0.5 ppm; ginseng at 0.05 ppm; vegetable legume, edible podded, subgroup 6A at 0.8 ppm; pea and bean, succulent shelled, subgroup 6B at 0.2 ppm; vegetable, foliage of legume, except soybean, subgroup 7A at 1.5 ppm; tomato subgroup 8-10A at 0.24 ppm; and fruit, citrus, group 10-10 at 0.26 ppm. Clover, forage and clover, hay are proposed as tolerances with regional registrations. A GC/MS analytical method has been developed for analyzing residues of metaldehyde in food crops including all of the crops identified above. The limit of quantitation (LOQ) for the method is 0.05 ppm.

5. PP 4F8229. (EPA-HQ-OPP-2014-0124). BASF Corporation, 26 Davis Drive, P.O. Box 13528, Research Triangle Park, NC 27709-3528, requests to establish a tolerance in 40 CFR part 180 for residues of the herbicide saflufenacil, 2-chloro-5-[3,6-dihydro-3-methyl-2,6-dioxo-4-(trifluoromethyl)-1(2H)-pyrimidinyl]-4-fluoro-N-[[methyl(1-methylethyl)amino]sulfonyl]benzamide, and its metabolites N-[2-chloro-5-(2,6-dioxo-4-(trifluoromethyl)-3,6-dihydro-1(2H)-pyrimidinyl)-4-fluorobenzoyl]-N′-isopropylsulfamide and N-[4-chloro-2-fluoro-5-({[(isopropylamino)sulfonyl]amino} carbonyl)phenyl]urea, calculated as the stoichiometric equivalent of saflufenacil, in or on olive at 0.03 ppm. Adequate enforcement methodology, LC/MS/MS methods, for plant and livestock commodities are available to enforce the tolerance expression.

Amended Tolerance

1. PP 2E8138. (EPA-HQ-OPP-2013-0653). Bayer CropScience LP, P.O. Box 12014, 2 T.W. Alexander Drive, Research Triangle Park, NC 27709, requests to amend their previously requested tolerances in 40 CFR part 180 by establishing: An increased tolerance for the fungicide tebuconazole, in or on orange, juice from 0.15 ppm to 0.7 ppm; a decreased tolerance in or on orange, oil from 400 ppm to 200 ppm; the proposed tolerance for orange, whole fruit remained the same at 1 ppm. An enforcement method for plant commodities has been validated on various commodities. It has undergone successful EPA validation and has been submitted for inclusion in Pesticide Analytical Method, Volume II (PAM II). The animal method has also been approved as an adequate enforcement method.

2. PP 3E8211. (EPA-HQ-OPP-2013-0255). Interregional Research Project Number 4 (IR-4), 500 College Road East, Suite 201 W, Princeton, NJ 08540, requests to remove the existing tolerance in 40 CFR 180.624 for residues of the fungicide metrafenone, (3-bromo-6-methoxy-2-methylphenyl)(2,3,4-trimethoxy-6-methylphenyl) methanone, in or on grape at 4.5 ppm, upon establishment of the proposed tolerances listed in paragraph 1. under “New Tolerance.”

3. PP 3E8215. (EPA-HQ-OPP-2013-0797). Interregional Research Project Number 4 (IR-4), 500 College Road East, Suite 201 W, Princeton, NJ 08540, requests to update the existing crop groups in 40 CFR 180.589 for residues of the fungicide boscalid, 3-pyridinecarboxamide,2-chloro-N-(4′-chloro[1,1′-biphenyl]-2-yl), by changing them from “fruit, stone, group 12 at 3.5 ppm” to “fruit, stone, group 12-12 at 3.5 ppm”; and “nut, tree, group 14 at 0.70 ppm” to “nut, tree, group 14-12 at 0.70 ppm”; and, in addition, remove the existing tolerance for “pistachio at 0.70 ppm.”

4. PP 3E8216. (EPA-HQ-OPP-2013-0798). Interregional Research Project Number 4 (IR-4), 500 College Road East, Suite 201 W, Princeton, NJ 08540, requests to update the existing crop groups in 40 CFR 180.582 for residues of the fungicide pyraclostrobin, carbamic acid, [2-[[[1-(4-chlorophenyl)-1H-pyrazol-3-yl]oxy]methyl] phenyl]methoxy-, methyl ester and its desmethoxy metabolite (methyl-N-[[[1-(4-chlorophenyl)-1H-pyrazol-3-yl]oxy]methyl] phenylcarbamate) (BF 500-3); expressed as parent compound, by changing them from “fruit, stone, group 12 at 2.5 ppm” to “fruit, stone, group 12-12 at 2.5 ppm”; and “nut, tree, group 14 at 0.04 ppm” to “nut, tree, group 14-12, except pistachio at 0.04 ppm.

5. PP 3E8223. (EPA-HQ-OPP-2014-0110). Interregional Research Project Number 4 (IR-4), 500 College Road East, Suite 201 W, Princeton, NJ 08540, requests to amend 40 CFR 180.523 by removing the established tolerances for residues of the molluscicide metaldehyde, 2,4,6,8-tetramethyl-1,3,5,7-tetroxocane, in or on fruit, citrus, group 10 at 0.26 ppm; and tomato at 0.24 ppm, upon establishment of the proposed tolerances listed in paragraph 4. under “New Tolerance.”

6. PP 4E8243. (EPA-HQ-OPP-2014-0143). Taminco US, Inc., Two Windsor Plaza, Suite 411, Allentown, PA 18195, requests to amend 40 CFR 180.132 by amending a time-limited import tolerance for residues of the fungicide thiram, in or on banana at 0.8 ppm. The time-limited tolerance is proposed for extension to March 31, 2015. Banana samples were analyzed according to Analytical Method No. Meth-100, Revision #4, “Determination of Thiram in Raw Agricultural Commodities, Processed Commodities and Other Plant Material.” Detection and quantitation for thiram (as CS2) were conducted using GC employing sulfur-specific flame photometric detection (FPD). The limit of quantitation (LOQ) was 0.05 ppm.

7. PP 3F8200. (EPA-HQ-OPP-2013-0264). Y-TEX Corporation, 1825 Big Horn Avenue, P.O. Box 1450, Cody, WY 82414, requests to amend their previously requested tolerance in 40 CFR part 180 by establishing an increased tolerance for the combined residues of the insecticide avermectin B1 (a mixture of avermectins containing greater than or equal to 80% avermectin B1a (5-O-demethyl avermectin A1) and less than or equal to 20% avermectin B1b (5-O-demethyl-25-de(1-methylpropyl)-25-(1-methylethyl) avermectin A1)) and its delta-8,9-isomer, in or on milk from 0.005 ppm to 0.01 ppm. The analytical method is titled “Determination of Macrocyclic Lactone Residues in Animal Tissues and Milk,” referenced as Method No. AATM-R-53, Revision 9, Agrisearch Analytical Pty Ltd, August 2011. The method involves mixing the sample with acetonitrile, evaporation, filtration, partition, extraction and cleanup with analysis by high performance liquid chromatography (HPLC)—fluorescence detection. The method has undergone independent laboratory validation as required by Pesticide Registration Notice 96-1.

New Tolerance Exemption

PP IN-10654. (EPA-HQ-OPP-2014-0073). Ecolab, Inc., EPA Company Number 1677, 370 N. Wabasha Street, St. Paul, MN 55102, requests to establish an exemption from the requirement of a tolerance for residues of sulfuric acid, (CAS No. 7664-93-9), for use as an inert ingredient in antimicrobial pesticide formulations applied to food-contact surfaces in public eating places, dairy processing equipment and food processing equipment and utensils in accordance with 40 CFR 180.940(a). The petitioner believes no analytical method is needed because it is not required for the establishment of a tolerance exemption for inert ingredients.

Amended Tolerance Exemption

PP IN-10544. (EPA-HQ-OPP-2013-0210). Spring Trading Co., 10805 W. Timberwagon Circle, Spring, TX 77380-4030, on behalf of Akzo Nobel Surface Chemistry, LLC, 525 West Van Buren, Chicago, IL 60607-3823, is requesting a change in the 40 CFR sections under which the requested tolerance exemptions would be established from 180.920, 180.930, or 180.960 to 180.910, 180.930, 180.940(a) or 180.960. Their initial Notice of Filing (NOF) published in the Federal Register of July 19, 2013 (78 FR 43115) (FRL-9392-9), where EPA issued a notice pursuant to section 408 of FFDCA, 21 U.S.C. 346a, announcing the filing of a pesticide petition (IN-10544). The petitioner is now requesting, pursuant to section 408(d) of the Federal Food, Drug, and Cosmetic Act (FFDCA). 21 U.S.C. 346a(d), to amend 40 CFR part 180 to amend the exemption from the requirement of a tolerance for [alpha]-alkyl-[omega]-hydroxypoly (oxypropylene) and/or poly (oxyethylene) polymers where the alkyl chain contains a minimum of six carbons under 40 CFR 180.910, 180.930, 180.940(a) or 180.960 in or on the raw agricultural commodities after harvest or growing crops, animals and food contact surface sanitizing solutions and [alpha]-alkyl-[omega]-hydroxypoly (oxypropylene) and/or poly (oxyethylene) polymers where the alkyl chain contains a minimum of six carbons, minimum number average molecular weight (in amu) 1,100 to include: Alcohols, cetyl oleyl, ethoxylated, propoxylated (CAS No. 116810-31-2). An analytical method is not required for enforcement purposes since the Agency is establishing an exemption from the requirement of a tolerance without any numerical limitation.

List of Subjects

Environmental protection, Agricultural commodities, Feed additives, Food additives, Pesticides and pests, Reporting and recordkeeping requirements.

Dated: February 12, 2014.
Daniel J. Rosenblatt,
Acting Director, Registration Division, Office of Pesticide Programs.

[FR Doc. 2014-03861 Filed 2-24-14; 8:45 am]

BILLING CODE 6560-50-P